DEPARTMENT OF LABOR

Employment and Training Administration

[TA-W-53,866]

Schott Scientific Glass; Parkersburg, WV; Notice of Termination of Investigation

Pursuant to section 221 of the Trade Act of 1974, as amended, an investigation was initiated on December 23, 2003, in response to a petition filed by the United Steelworkers of America, local 570 on behalf of workers at Schott Scientific Glass, Parkersburg, West Virginia.

The petitioning group of workers is covered by an active certification issued on February 20, 2002, and which remains in effect (TA-W-40,263). Consequently, further investigation in this case would serve no purpose, and the investigation has been terminated.

Signed at Washington, DC, this 14th day of January, 2004.
Linda G. Poole,
Certifying Officer, Division of Trade Adjustment Assistance.

[FR Doc. 04-2615 Filed 2-5-04; 8:45 am]

BILLING CODE 4510-30-P